FEDERAL COMMUNICATIONS COMMISSION

Deletion of Consent Agenda Items From June 13, 2014 Sunshine Act Meeting

Date: June 13, 2014.

The following items have been adopted by the Commission and deleted from the list of consent agenda items scheduled for consideration at the Friday, June 13, 2014, Open Meeting and previously listed in the Commission's Notice of June 6, 2014.

Item No. | Bureau | Subject
1 | MEDIA | TITLE: 6 Johnson Road Licenses, Inc., and Educational Media Foundation, Assignors, and Cumulus Licensing LLC, Assignee, Applications for Assignment of Stations WMEZ(FM), Pensacola, Florida, WXBM-FM, Milton, Florida, and WABD(FM), Mobile, Alabama. SUMMARY: The Commission will consider a Memorandum Opinion and Order concerning an Application for Review filed by ADX Communications of Escambia and Pensacola seeking review of Media Bureau decisions granting assignment applications.
2 | MEDIA | TITLE: Amendment of Section 73.202(b), Table of Allotments, FM Broadcast Stations (Columbia, Missouri). SUMMARY: The Commission will consider a Memorandum Opinion and Order concerning an Application for Review filed by The Curators of the University of Missouri seeking review of the Media Bureau's dismissal of its rulemaking petition to reserve Channel 252C2 in Columbia, Missouri, for noncommercial educational use.
3 | MEDIA | TITLE: Smile FM, Application for a Construction Permit For a New Noncommercial Educational FM Station at Yates, Michigan. SUMMARY: The Commission will consider a Memorandum Opinion and Order concerning an Application for Review filed by Smile FM seeking review of the Media Bureau's dismissal of its application for a new noncommercial educational FM station at Yates, Michigan.
4 | MEDIA | TITLE: TJN, Inc., Application for a New NCE FM Station at Gold Beach, Oregon and UCB USA, Inc. Application for a New NCE FM Station at Brookings, Oregon. SUMMARY: The Commission will consider a Memorandum Opinion and Order concerning an Application for Review filed by TJN seeking review of a decision by the Media Bureau dismissing its application for a new noncommercial FM station at Gold Beach, Oregon.
5 | MEDIA | TITLE: Scott Savage, Receiver, Assignor, Applications for Assignment of Licenses For Stations WFJO(FM), Folkston, Georgia, WHJX(FM), Baldwin, Florida, WSJF(FM), St. Augustine Beach, Florida, and WTHG(FM), Hinesville, Georgia. SUMMARY: The Commission will consider a Memorandum Opinion and Order concerning an Application for Review filed by Dr. Glenn W. Cherry and Charles W. Cherry, II, seeking review of several decisions by the Media Bureau.
6 | MEDIA | TITLE: BVM Helping Hands, Application for Construction Permit for New Noncommercial Educational FM Station, Antioch, Illinois SUMMARY: The Commission will consider a Memorandum Opinion and Order concerning an Application for Review filed by Chicago Public Media seeking review of a decision by the Media Bureau granting a new noncommercial educational FM station in Antioch, Illinois to BVM Helping Hands.
7 | MEDIA | TITLE: New Jersey Public Broadcasting Authority, Application for a New NCE FM Station at Bernardsville, New Jersey and World Revivals, Inc., Application for a New NCE FM Station at Chatham, New Jersey. SUMMARY: The Commission will consider a Memorandum Opinion and Order concerning an Application for Review filed by World Revivals, Inc., seeking review of several decisions by the Media Bureau.

Federal Communications Commission.
Marlene H. Dortch,
Secretary, Office of the Secretary, Office of Managing Director.

[FR Doc. 2014-14396 Filed 6-16-14; 4:15 pm]

BILLING CODE 6712-01-P